DEPARTMENT OF HEALTH AND HUMAN SERVICES

Centers for Disease Control and Prevention

[Docket Number NIOSH 099-A]

Revised Draft Document “Asbestos Fibers and Other Elongated Mineral Particles: State of the Science and Roadmap for Research”

AGENCY: National Institute for Occupational Safety and Health (NIOSH) of the Centers for Disease Control and Prevention (CDC), Department of Health and Human Services (HHS).

ACTION: Notice of Draft Document Available for Public Comment.

SUMMARY: The National Institute for Occupational Safety and Health (NIOSH) of the Centers for Disease Control and Prevention (CDC) announces the following revised draft document available for public comment entitled “Asbestos Fibers and Other Elongated Mineral Particles: State of the Science and Roadmap for Research.” The document and instructions for submitting comments can be found at http://www.cdc.gov/niosh/review/public/099-A/.

Public Comment Period: July 24, 2008 through September 30, 2008.

Status: Written comments may be mailed to the attention of Diane Miller, NIOSH Docket Office, Robert A. Taft Laboratories, 4676 Columbia Parkway, MS-C34, Cincinnati, Ohio 45226, telephone (513) 533-8450, facsimile (513) 533-8285. Comments may also be submitted by e-mail to nioshdocket@cdc.gov. All material submitted to the Agency should reference the NIOSH Docket number 099-A. All electronic comments should be formatted as Microsoft Word.

All information received in response to this notice will be available for public examination and copying at the NIOSH Docket Office, 4676 Columbia Parkway, Cincinnati, Ohio 45226.

Purpose: To obtain comments from the public on the revised draft document entitled, “Asbestos Fibers and Other Elongated Mineral Particles: State of the Science and Roadmap for Research,” referred to as Roadmap. Asbestos has been a highly visible issue in public health for over three decades. Many advances have been made in the scientific understanding of worker health effects from exposure to asbestos and other elongated mineral particles (EMPs), and it is now well documented that fibers of asbestos minerals, when inhaled, can cause serious diseases in exposed workers. Yet, many questions and areas of scientific uncertainty remain.

Background: As the Federal agency responsible for conducting research and making recommendations for the prevention of worker injury and illness, NIOSH is undertaking a reappraisal of how to ensure appropriate protection of workers from exposure to asbestos fibers and other EMPs. NIOSH prepared a first draft of the document “Asbestos and Other Mineral Fibers: A Roadmap for Scientific Research,” and invited comments at a public meeting, from the Internet, and from selected expert peer reviewers on the occupational health issues identified and the framework for research. As a result of comments received during the public and expert peer review process, NIOSH has substantially revised the earlier draft and is now inviting comments on a revised draft of the document with the new title “Asbestos Fibers and Other Elongated Mineral Particles: State of the Science and Roadmap for Research.” The previous draft, public comments, peer review comments, and the responses to peer reviewers' comments on the previous draft can be found at http://www.cdc.gov/niosh/docket/NIOSHdocket0099.html.

The purpose of the revised draft Roadmap is to outline major areas of controversy and to recommend a research agenda that can serve as a guide for the development of specific research programs within and across disciplines. The intended goal is to provide answers to current scientific questions, reduce scientific uncertainties, and provide a sound scientific foundation for future policy development so that optimal health protection can be assured.

NIOSH is seeking comments on the scope and information used to support the development of a research framework for asbestos fibers and other EMPs. Of special interest are comments on the following revisions to the draft document:

1. A discussion of particle characteristics (e.g., dimension, chemistry) and their potential influence on biological responses (Sections 1.6.1, 1.6.2, 1.6.3, and 1.6.4).

2. Toxicological research with EMPs (Section 2.2).

3. Epidemiological studies of workers exposed to EMPs (Section 2.3.3).

4. Capabilities and limitations of analytical instruments used to identify EMPs (Section 2.4.2).

Also of special interest are comments on the entirely new content in the document:

1. A rephrasing of the NIOSH recommended exposure limit (REL) for asbestos and related EMPs (Section 1.8.2).

2. The inclusion of “How the proposed research could lead to the development of improved public health policies for asbestos and other EMPs” (Section 2.5).

3. Clinical issues (Section 1.4).

4. Recommendations for clinical research (Section 2.3.4).

NIOSH continues to be interested in available and forthcoming research results that can help answer the questions set forth in the Roadmap, as well as information on existing workplace exposure data, health effects, and control technologies.

Submitted comments on the revised draft Roadmap should indicate the pertinent page(s) and line(s) in the draft document being addressed.

Contact Person for Technical Information: Paul Middendorf, Office of the Director, NIOSH, CDC, telephone (513) 533-8606, e-mail pmiddendorf@cdc.gov.

Dated: July 16, 2008.
James D. Seligman,
Chief Information Officer, Centers for Disease Control and Prevention.

[FR Doc. E8-16946 Filed 7-23-08; 8:45 am]

BILLING CODE 4163-19-P